DEPARTMENT OF LABOR

Employment and Training Administration

[TA-WA-38,072]

Jn Oil and Gas, Incorporated; Billings, MT; Dismissal of Application for Reconsideration

Pursuant to 29 CFR 90.18(C) an application for administrative reconsideration was filed with the Director of the Division of Trade Adjustment Assistance for workers at JN Oil and Gas, Incorporated, Billings, Montana. The application contained no new substantial information which would bear importantly on the Department's determination. Therefore, dismissal of the application was issued.

TA-W-38,072; JN Oil and Gas, Incorporated; Billings, Montana (October 25, 2000).

Signed at Washington, DC this 26th day of October, 2000.
Edward A. Tomchick,
Director, Division of Trade Adjustment Assistance.

[FR Doc. 00-28242 Filed 11-2-00; 8:45 am]

BILLING CODE 4510-30-M